ENVIRONMENTAL PROTECTION AGENCY

40 CFR Parts 52 and 81

[EPA-R04-OAR-2007-0549-200742; FRL-8482-4]

Approval and Promulgation of Implementation Plans and Designation of Areas for Air Quality Planning Purposes; Georgia: Redesignation of Murray County, GA, 8-Hour Ozone Nonattainment Area to Attainment for Ozone

AGENCY: Environmental Protection Agency (EPA).

ACTION: Final rule.

SUMMARY: EPA is taking final action to approve a request submitted on June 15, 2007, from the State of Georgia, through the Georgia Environmental Protection Division (EPD), to redesignate the Murray County 8-hour ozone nonattainment area to attainment for the 8-hour ozone National Ambient Air Quality Standard (NAAQS). The Murray County 8-hour nonattainment ozone area is a partial county area, comprised of the portion of Murray County that makes up the Chattahoochee National Forest (Murray County Area). EPA's approval of the redesignation request is based on the determination that the Murray County Area has met the criteria for redesignation to attainment set forth in the Clean Air Act (CAA), including the determination that the Murray County Area has attained the 8-hour ozone standard. Additionally, EPA is approving a revision to the Georgia State Implementation Plan (SIP) including the 8-hour ozone maintenance plan for the Murray County Area that contains the new 2018 motor vehicle emission budgets (MVEBs) for nitrogen oxides (NOX) and volatile organic compounds (VOCs). Through this action, EPA is also finding the 2018 MVEBs adequate for the purposes of transportation conformity.

DATES: Effective Date: This rule will be effective November 15, 2007.

ADDRESSES: EPA has established a docket for this action under Docket Identification No. EPA-R04-OAR-2007-0549. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m., excluding federal holidays.

FOR FURTHER INFORMATION CONTACT: Stacy Harder, Regulatory Development Section, Air Planning Branch, Air, Pesticides and Toxics Management Division, Region 4, U.S. Environmental Protection Agency, 61 Forsyth Street, SW., Atlanta, Georgia 30303-8960. Ms. Harder can be reached via telephone number at (404) 562-9042 or electronic mail at Harder.Stacy@epa.gov.

SUPPLEMENTARY INFORMATION:

Table of Contents

I. What Is the Background for the Actions?

II. What Actions Is EPA Taking?

III. Why Are We Taking These Actions?

IV. What Are the Effects of These Actions?

V. Final Action

VI. Statutory and Executive Order Reviews

I. What Is the Background for the Actions?

On June 15, 2007, Georgia, through the GA EPD, submitted a request to redesignate Murray County to attainment for the 8-hour ozone standard, and for EPA approval of the Georgia SIP revision containing a maintenance plan for the Murray County Area. In an action published on August 29, 2007 (72 FR 49679), EPA proposed to approve the redesignation of Murray County to attainment. EPA also proposed approval of Georgia's plan for maintaining the 8-hour NAAQS as a SIP revision, and proposed to approve the 2018 regional MVEBs for the Murray County Area that were contained in the maintenance plan. In the August 29, 2007, proposed action, EPA also provided information on the status of its transportation conformity adequacy determination for the Macon Area MVEBs. EPA received no comments on the August 29, 2007, proposal.

In this action, EPA is also finalizing its determination that the new regional MVEBs for the Macon Area are adequate for transportation conformity purposes. The MVEBs included in the maintenance plan are as follows:

Murray County 2018 MVEBs
[Tons per day]
| 2018
VOCs | 0.0117
NOX | 0.0129

EPA's adequacy public comment period on these MVEBs (as contained in Georgia's submittal) began on June 21, 2007, and closed on July 23, 2007. No comments were received during EPA's adequacy public comment period. Through this Federal Register notice, EPA is finding the 2018 regional MVEBs, as contained in Georgia's submittal, adequate. These MVEBs meet the adequacy criteria contained in the Transportation Conformity Rule. The new regional MVEBs must be used for future transportation conformity determinations.

As was discussed in greater detail in the August 29, 2007, proposal, this redesignation is for the 8-hour ozone designations finalized in 2004 (69 FR 23857, April 30, 2007). Various aspects of EPA's Phase 1 8-hour ozone implementation rule were challenged in court and on December 22, 2006, the U.S. Court of Appeals for the District of Columbia Circuit (D.C. Circuit Court) vacated EPA's Phase 1 Implementation Rule for the 8-hour Ozone Standard. (69 FR 23951, April 30, 2004). South Coast Air Quality Management Dist. (SCAQMD) v. EPA, 472 F.3d 882 (D.C. Cir. 2006). On June 8, 2007, in response to several petitions for rehearing, the D.C. Circuit Court clarified that the Phase 1 Rule was vacated only with regard to those parts of the Rule that had been successfully challenged. Therefore, the Phase 1 Rule provisions related to classifications for areas currently classified under subpart 2 of title I, part D of the CAA as 8-hour nonattainment areas, the 8-hour attainment dates and the timing for emissions reductions needed for attainment of the 8-hour ozone NAAQS, remain effective. The June 8th decision left intact the Court's rejection of EPA's reasons for implementing the 8-hour standard in certain nonattainment areas under subpart 1 in lieu of subpart 2. By limiting the vacatur, the Court let stand EPA's revocation of the 1-hour standard and those anti-backsliding provisions of the Phase 1 Rule that had not been successfully challenged. The June 8th decision affirmed the December 22, 2006, decision that EPA had improperly failed to retain measures required for 1-hour nonattainment areas under the anti-backsliding provisions of the regulations: (1) Nonattainment area New Source Review (NSR) requirements based on an area's 1-hour nonattainment classification; (2) Section 185 penalty fees for 1-hour severe or extreme nonattainment areas; and (3) measures to be implemented pursuant to section 172(c)(9) or 182(c)(9) of the CAA, on the contingency of an area not making reasonable further progress toward attainment of the 1-hour NAAQS, or for failure to attain that NAAQS. The June 8th decision clarified that the Court's reference to conformity requirements for anti-backsliding purposes was limited to requiring the continued use of 1-hour MVEBs until 8-hour budgets were available for 8-hour conformity determinations, which is already required under EPA's conformity regulations. The Court thus clarified that 1-hour conformity determinations are not required for anti-backsliding purposes.

With respect to the requirement for transportation conformity under the 1-hour standard, the Court in its June 8th decision clarified that for those areas with 1-hour MVEBs in their 1-hour maintenance plans, anti-backsliding requires only that those 1-hour budgets must be used for 8-hour conformity determinations until replaced by 8-hour budgets. To meet this requirement, conformity determinations in such areas must continue to comply with the applicable requirements of EPA's conformity regulations at 40 CFR Part 93. The Murray County Area was never designated nonattainment for the 1-hour ozone standard and thus does not have 1-hour MVEBs to consider.

For the above reasons, and those set forth in the August 29, 2007, proposal for the redesignation of the Murray County Area, EPA does not believe that the Court's rulings alter any requirements relevant to this redesignation action so as to preclude redesignation, and do not prevent EPA from finalizing this redesignation. EPA believes that the Court's December 22, 2006, and June 8, 2007, decisions impose no impediment to moving forward with redesignation of Murray County to attainment. Even in light of the Court's decisions, redesignation is appropriate under the relevant redesignation provisions of the CAA and longstanding policies regarding redesignation requests.

II. What Actions Is EPA Taking?

EPA is taking final action to approve Georgia's redesignation request and to change the legal designation of the Murray County Area from nonattainment to attainment for the 8-hour ozone NAAQS. The Murray County Area is comprised of the portion of Murray County that makes up the Chattahoochee National Forest. EPA is also approving Georgia's 8-hour ozone maintenance plan for the Murray County Area (such approval being one of the CAA criteria for redesignation to attainment status). The maintenance plan is designed to help keep Murray County in attainment for the 8-hour ozone NAAQS through 2018. These approval actions are based on EPA's determination that Georgia has demonstrated that the Murray County Area has met the criteria for redesignation to attainment specified in the CAA, including a demonstration that the Murray County Area has attained the 8-hour ozone standard. EPA's analyses of Georgia's 8-hour ozone redesignation request and maintenance plan are described in detail in the proposed rule published August 29, 2007 (72 FR 49679).

Consistent with the CAA, the maintenance plan that EPA is approving also includes 2018 regional MVEBs for NOX and VOCs for the Murray County Area. In this action, EPA is approving these 2018 MVEBs. For regional emission analysis years that involve years prior to 2018, there are no applicable budgets (for the purpose of conducting transportation conformity analyses), so the transportation conformity partners should consult with the area's interagency consultation group to determine the appropriate interim tests to use. For regional emission analysis years that involve the year 2018 and beyond, the applicable budgets, for the purpose of conducting transportation conformity analyses, are the new 2018 MVEBs. In this action, EPA is also finding adequate and approving the Murray County Area's new regional MVEBs for NOX and VOCs.

III. Why Are We Taking These Actions?

EPA has determined that the Murray County Area has attained the 8-hour ozone standard and has also determined that Georgia has demonstrated that all other criteria for the redesignation of the Murray County Area from nonattainment to attainment of the 8-hour ozone NAAQS have been met. See section 107(d)(3)(E) of the CAA. EPA is also taking final action to approve the maintenance plan for Murray County as meeting the requirements of sections 175A and 107(d) of the CAA. Furthermore, EPA is finding adequate and approving the new 2018 regional MVEBs contained in Georgia's maintenance plan because these MVEBs are consistent with maintenance for the Murray County Area. In the August 29, 2007, proposal to redesignate Murray County, EPA described the applicable criteria for redesignation to attainment and its analysis of how those criteria have been met. The rationale for EPA's findings and actions is set forth in the proposed rulemaking and summarized in this final rulemaking.

IV. What Are the Effects of These Actions?

Approval of the redesignation request changes the legal designation of the Murray County Area, Georgia for the 8-hour ozone NAAQS, found at 40 CFR part 81. The approval also incorporates into the Georgia SIP a plan for maintaining the 8-hour ozone NAAQS in Murray County through 2018. The maintenance plan includes contingency measures to remedy future violations of the 8-hour ozone NAAQS, and establishes regional MVEBs for the year 2018 for Murray County.

V. Final Action

After evaluating Georgia's redesignation request, EPA is taking final action to approve the redesignation and change the legal designation of Murray County, Georgia from nonattainment to attainment for the 8-hour ozone NAAQS. Through this action, EPA is also approving into the Georgia SIP the 8-hour ozone maintenance plan for the Murray County Area, which includes the new regional 2018 MVEBs of 0.0117 tpd for VOCs, and 0.0129 tpd for NOX. EPA is also finding adequate and approving the new 2018 regional MVEBs contained in Georgia's maintenance plan for the Murray County Area. If transportation conformity is implemented in this area, the Georgia transportation partners will need to use these new MVEBs pursuant to 40 CFR 93.104(e) as effectively amended by section 172(c)(2)(E) of the CAA as added by the Safe, Accountable, Flexible, Efficient Transportation Equity Act—A Legacy for Users (SAFETEA-LU), which was signed into law on August 10, 2005.

VI. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the states, on the relationship between the national government and the states, or on the distribution of power and responsibilities among the various levels of government, as specified in Executive Order 13132 (64 FR 43255, August 10, 1999). This action merely affects the status of a geographical area, does not impose any new requirements on sources or allow a state to avoid adopting or implementing other requirements, and does not alter the relationship or the distribution of power and responsibilities established in the CAA. This rule also is not subject to Executive Order 13045, “Protection of Children from Environmental Health Risks and Safety Risks” (62 FR 19885, April 23, 1997), because it is not economically significant and because the Agency does not have reason to believe that the rule concerns an environmental health risk or safety risk that may disproportionately affect children.

In reviewing SIP submissions, EPA's role is to approve state choices, provided that they meet the criteria of the CAA. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 17, 2007. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2) of the CAA.)

List of Subjects

40 CFR Part 52

Environmental protection, Air pollution control, Intergovernmental relations, Nitrogen dioxide, Ozone, Reporting and recordkeeping requirements, Volatile organic compounds.

40 CFR Part 81

Environmental protection, Air pollution control, National parks, Wilderness areas.

Dated: October 4, 2007.
Russell L. Wright, Jr.,
Acting Regional Administrator, Region 4.

40 CFR part 52 and 81 are amended as follows:

PART 52—[AMENDED]

1. The authority citation for part 52 continues to read as follows:

Authority: 42 U.S.C. 7401 et seq.

Subpart L—Georgia

2. Section 52.570 is amended by adding a new entry at the end of the table for “26. Murray County 8-hour Ozone Maintenance Plan” to read as follows:

§ 52.570 Identification of plan.

* * * * *

(e) * * *

EPA-Approved Georgia Non-Regulatory Provisions
Name of nonregulatory SIP provision | Applicable geographic or nonattainment area | State submittal date/effective date | EPA approval date
* * * * * * *
26. Murray County 8-hour Ozone Maintenance Plan | Murray County | June 15, 2007 | October 16, 2007 [Insert first page of publication].

PART 81—[AMENDED]

3. The authority citation for part 81 continues to read as follows:

Authority: 42 U.S.C. 7401 et seq.

4. In § 81.311, the table entitled “Georgia-Ozone (8-Hour Standard)” is amended by revising the entry for “Monroe County (part),” to read as follows:

§ 81.311 Georgia.

* * * * *

Georgia-Ozone
[8-Hour standard]
Designated area | Designation ᵃ: Date ¹ | Designation ᵃ: Type | Category/classification: Date ¹ | Category/classification: Type
* * * * * * *
Murray Co (Chattahoochee Nat Forest), GA: Murray County (part) | 11/15/07 | Attainment
The area enclosed to the east by Murray County's eastern border, to the north by latitude of 34.9004 degrees, to the west by longitude 84.7200 degrees, and to the south by 34.7040 degrees. All mountain peaks within the Chattahoochee National Forest area of Murray County that have an elevation greater than or equal to 2,400 feet and that are enclosed by contour lines that close on themselves
* * * * * * *
ᵃ Includes Indian Country located in each county or area, except as otherwise specified.
¹ This date is June 15, 2004, unless otherwise noted.

* * * * *

[FR Doc. E7-20340 Filed 10-15-07; 8:45 am]

BILLING CODE 6560-50-P